DEPARTMENT OF ENERGY

Federal Energy Regulatory Commission

[Docket No. ER02-2014-004]

Entergy Services, Inc.; Notice of Filing

November 15, 2002.

Take notice that on November 12, 2002, Entergy Services, Inc. (Entergy Services) filed proposed revisions to its proposed Attachment Q (proposed Generator Operating Limits Procedure) to its Open Access Transmission Tariff filed in Docket ER02-2014-000. The proposed Generator Operating Limits Procedure addresses local transmission constraints on the Entergy transmission system and provides an alternate process for generators to participate in short-term bulk power markets.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Comment Date: November 25, 2002.

Linwood A. Watson, Jr.,
Deputy Secretary.

[FR Doc. 02-29717 Filed 11-20-02; 8:45 am]

BILLING CODE 6717-01-P